DEPARTMENT OF TRANSPORTATION

Federal Motor Carrier Safety Administration

[Docket No. FMCSA-2018-0328]

Agency Information Collection Activities; New Information Collection: Beyond Compliance

AGENCY: Federal Motor Carrier Safety Administration (FMCSA).

ACTION: Notice and request for comments.

SUMMARY: In accordance with the Paperwork Reduction Act of 1995, FMCSA announces its plan to submit the information collection request (ICR) described below to the Office of Management and Budget (OMB) for its review and approval and invites public comment. The primary purpose of the ICR is to obtain information from motor carriers, which will allow FMCSA to study and to assess the effectiveness of various technologies, programs, and policies on motor carrier safety performance in support of the implementation of the Fixing America's Surface Transportation Act (FAST Act) Beyond Compliance requirements.

DATES: FMCSA must receive your comments on or before February 18, 2020.

ADDRESSES: You may submit comments identified by Federal Docket Management System (FDMS) Docket Number FMCSA-2018-0328 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: Docket Operations, U.S. Department of Transportation, 1200 New Jersey Avenue SE, West Building, Ground Floor, Room W12-140, Washington, DC 20590-0001 between 9 a.m. and 5 p.m. ET, Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL 14—FDMS), which can be reviewed at https://www.transportation.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Ms. Nicole Michel, Research Division, U.S. Department of Transportation, Federal Motor Carrier Safety Administration, West Building 6th Floor, 1200 New Jersey Avenue SE, Washington, DC 20590. Telephone: 202-366-4354; email: nicole.michel@dot.gov.

SUPPLEMENTARY INFORMATION: Background: FMCSA requests OMB's review and approval of a new ICR to implement the Beyond Compliance Program, required by section 5222 of the Fixing America's Surface Transportation Act (FAST Act) (Pub. L. 114-94, 129 Stat. 1312, 1540, Dec. 4, 2015) (49 U.S.C. 31100 note).

The FAST Act requires FMCSA to allow recognition, including credit or an improved Safety Measurement System (SMS) percentile, for motor carriers that: (1) Install advanced safety equipment; (2) use enhanced driver fitness measures; (3) adopt fleet safety management tools, technologies, and programs; or (4) satisfy other standards determined appropriate by the Administrator.

The FAST Act also requires the FMCSA Administrator to carry out the Beyond Compliance provisions through: (1) Incorporating a methodology into the Compliance Safety Accountability (CSA) program; or (2) establishing a safety Behavior Analysis and Safety Improvement Category (BASIC).

FMCSA intends to meet the requirements of the FAST Act by: (1) Developing a process for identifying elements of technology and safety programs as a basis for recognition; (2) seeking input from stakeholders; (3) using a third party for a monitoring program; and (4) providing a report to Congress.

The primary purpose of the ICR is to obtain information from motor carriers, which will allow FMCSA to study and to assess the effectiveness of various technologies, programs, and policies on motor carrier safety performance in support of the implementation of the FAST Act Beyond Compliance requirements. To accomplish this, the study will complete the following three objectives:

(1) Identify high-performing carriers in terms of safety performance.

(2) Determine the safety technologies, programs, and policies employed by these carriers.

(3) Gauge the relative effectiveness of those safety technologies, programs, and policies based on the expert opinion and performance metrics of the high performing carriers.

The data being collected for this study consists of responses from a select group of motor carriers on the most effective technologies, programs, and policies for achieving safe operations. The study does not attempt to conduct a full survey of the motor carrier population. Instead, it relies on expert opinion from carriers that are objectively determined to exhibit safe operations that exceed industry averages as indicated by driver out-of-service rates, vehicle out-of-service rates, and crash rates. To identify these carriers, the study will utilize existing data from the Motor Carrier Management Information System (MCMIS) database.

FMCSA will collect data through an electronic survey of motor carriers who have safety performance records that are better than national averages. These carriers will be identified by examining Department of Transportation-reportable crash rates, driver out-of-service rates at roadside inspections, and vehicle out-of-service rates at roadside inspections. Only those carriers that perform near the top quartile (as determined by the selection criteria laid out below) across all three carrier size categories (large, medium, and small) are potential participants.

Participants would be invited to participate in an online webinar that explains the survey design (i.e., analytic hierarchy process, or AHP). AHP is a tool for addressing complex decision-making that employs a series of structured, pairwise comparisons in which respondents must express a preference for one alternative over another according to various evaluation criteria. Participants may not know how to proceed through the pairwise comparisons. Instead of solely relying on written instructions to explain to participants how to complete the survey, the project team believes it would be useful to conduct an information session via a webinar so an example can be provided and any questions answered. The webinar would be conducted multiple times and participants would be given the option to select the one that best suits their schedules. In addition to the webinar, an online video would be made available to participants that explains the AHP.

Once participants complete the webinar, they will be given a link to complete the survey online using an online survey tool such as Survey Monkey or Qualtrics. In the context of the Beyond Compliance ICR, the AHP-based survey would work by presenting motor carriers with alternatives for what an ideal safety program looks like and allowing them to systematically compare the major elements of these programs. The survey results would then be analyzed to determine the safety program elements that were most frequently scored the highest across participants. The resulting information would reveal the elements of safety programs that these motor carriers are using and their achieved results. It would also reveal what these motor carriers believe to be the most effective for achieving safety and should be included in a Beyond Compliance program.

Data collection will be completed within 90 days of the end of the pilot program period and followed by a statistical analysis in 180 days. Both descriptive and analytical methods will be employed during the data analysis. The results of the study will be documented in a technical report that will be delivered to and maintained by FMCSA. This report will be available to the public on the FMCSA website, at www.fmcsa.dot.gov. The contents of the technical report will be utilized in developing the report to Congress that FMCSA is required to provide pursuant to section 5222 of the FAST Act.

FMCSA is requesting a one-time collection of data for the Beyond Compliance study. Currently, there is no existing data set that can be used for this project. Not collecting this data would result in the failure of FMCSA to fulfill the congressional mandate to develop a Beyond Compliance program, as specified in section 5222 of the FAST Act. The draft supporting statement for this information collection is available in the docket.

Title: Beyond Compliance.

OMB Control Number: 2126-00XX.

Type of Request: New information collection.

Respondents: Motor carrier operational managers.

Estimated Number of Respondents: 225 (estimated that 225 will receive the survey with 112 fully completing the survey).

Estimated Time per Response: Email Invitation: 5 minutes. Webinar: 10 minutes. Survey: 45 minutes. Email Reminder (first): 5 minutes. Email Reminder (second): 5 minutes. Total time per response (estimated 113 that choose not to complete the survey): 10 minutes. Total time per response (estimated 112 that fully complete the survey): 70 minutes.

Expiration Date: This is a new ICR.

Frequency of Response: Once.

Estimated Total Annual Burden: 160 hours [225 email recipients × 15 minutes + 112 webinar respondents × 10 minutes + 112 survey respondents × 45 minutes].

Public Comments Invited: You are asked to comment on any aspect of this information collection, including: (1) Whether the proposed collection is necessary for the performance of FMCSA's functions; (2) the accuracy of the estimated burden; (3) ways for FMCSA to enhance the quality, usefulness, and clarity of the collected information; (4) ways that the burden could be minimized without reducing the quality of the collected information; and (5) whether the potential respondents should be expanded to include carriers who have made significant safety improvements and/or carriers who wish to participate in the study, and if so, how should “significant safety improvements” be defined. The Agency will summarize or include your comments in the request for OMB's clearance of this information collection.

Issued under the authority of 49 CFR 1.87 on: December 11, 2019.
Kelly Regal,
Associate Administrator for Office of Research and Information Technology.

[FR Doc. 2019-27255 Filed 12-17-19; 8:45 am]

BILLING CODE 4910-EX-P